DEPARTMENT OF LABOR

Office of the Secretary

Agency Information Collection Activities; Submission for OMB Review; Comment Request; CW-1 Application for Temporary Employment Certification

ACTION: Notice of availability; request for comments.

SUMMARY: The Department of Labor (DOL or Department) is submitting the Employment and Training Administration (ETA) sponsored Information Collection Request (ICR) titled, CW-1 Application for Temporary Employment Certification (OMB Control Number 1205-0534), to the Office of Management and Budget (OMB) for review and approval for continued use in accordance with the Paperwork Reduction Act (PRA) of 1995. Public comments on the ICR are invited.

DATES: The OMB will consider all written comments it receives on or before November 4, 2019.

ADDRESSES: A copy of this ICR with applicable supporting documentation, including a description of the likely respondents, proposed frequency of response, and estimated total burden, may be obtained free of charge from the RegInfo.gov website at: http://www.reginfo.gov/public/do/PRAViewICR?ref_nbr=201909-1205-005 (this link will only become active on the day following publication of this notice); by contacting Frederick Licari at 202-693-4129/TTY 202-693-8064 (these are not toll-free numbers); or by sending an email to: DOL_PRA_PUBLIC@dol.gov.

Submit comments about this request by mail to the Office of Information and Regulatory Affairs, Attn: OMB Desk Officer for DOL-ETA, Office of Management and Budget, Room 10235, 725 17th Street NW, Washington, DC 20503; by Fax: 202-395-6881 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-4129/TTY 202-693-8064 (these are not toll-free numbers); or by sending an email to: DOL_PRA_PUBLIC@dol.gov.

SUPPLEMENTARY INFORMATION: This ICR seeks approval under the PRA (44 U.S.C. 3501 et seq.) for the extension to CW-1 Application for Temporary Employment Certification, which is currently set to expire on September 30, 2019, and all applicable forms, instructions, and electronic versions (OMB Control Number 1205-0534). The Department collects information through Form ETA-9142C, Application for Temporary Employment Certification and appendices, and Form ETA-9141C, Application for Prevailing Wage Determination, to carry out the responsibilities created for the Department under the Northern Mariana Islands U.S. Workforce Act of 2018 (Pub. L. 115-218) (Workforce Act).

The Workforce Act provides that a petition to employ a nonimmigrant worker under the CW-1 visa classification may not be approved by the U.S. Department of Homeland Security unless the employer has received a temporary labor certification from DOL confirming the following: (1) There are not sufficient U.S. workers in the Commonwealth of the Northern Mariana Islands who are able, willing, qualified, and available at the time and place needed to perform the services or labor involved in the petition; and (2) the employment of a nonimmigrant worker who is the subject of a petition will not adversely affect the wages and working conditions of similarly employed U.S. workers. 48 U.S.C. 1806(d)(2)(A).

The ICR was originally submitted under the emergency processing provisions outlined at 5 CFR 1320.13, and the Department requested the maximum six-month approval. Because this ICR relates to an Interim Final Rule (IFR) that the Workforce Act required to be promulgated on an expedited basis, there was no opportunity to engage in normal clearance activities. Public harm would have resulted by a failure timely to enact the information collection, because employers and jobseekers would not have had the protections afforded by the Workforce Act.

In accordance with the PRA, the Department afforded the public notice and an opportunity to comment on these new information collection tools that are related to the CW-1 program and that are necessary to implement the requirements of the IFR. The information collection activities covered by this new OMB Control Number 1205-0534 include forms and recordkeeping requirements on which the Department relies for determining prevailing wages and issuing temporary labor certifications (TLCs) in connection with the CW-1 program. Additionally, these information collection tools permit employers to assure compliance with respect to the minimum terms and conditions associated with the Prevailing Wage Determinations and TLC processes, which include the rights and obligations of CW-1 workers and workers in corresponding employment, in addition to information regarding recordkeeping requirements associated with the CW-1 program. Specifically, ETA has created new Form ETA-9141C, Application for Prevailing Wage Determination, and new Form ETA-9142C, CW-1 Application for Temporary Employment Certification.

This information collection is subject to the PRA. A Federal agency generally cannot conduct or sponsor a collection of information, and the public generally is not required to respond to an information collection, unless it is approved by the OMB under the PRA and displays a currently valid OMB Control Number. In addition, notwithstanding any other provisions of law, no person shall generally be subject to penalty for failing to comply with a collection of information that does not display a valid Control Number. 5 CFR 1320.6. The Department obtained OMB approval for this information collection under Control Number 1205-0534. The current approval is scheduled to expire on September 30, 2019; however, DOL notes that remaining information collection requirements submitted to the OMB receive a month-to-month extension while they undergo review.

Interested parties are encouraged to send comments to the OMB, Office of Information and Regulatory Affairs, at the address shown in the ADDRESSES section within thirty (30) days of the publication of this notice in the Federal Register by November 4, 2019. To help ensure appropriate consideration, comments should mention OMB Control Number 1205-0534. OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of the Collection: CW-1 Application for Temporary Employment Certification (Form ETA-9142C; Form ETA-9141C; recordkeeping requirements).

OMB Number: 1205-0534

Agency Form Number: Form ETA-9142C; Form ETA-9141C; recordkeeping requirements.

Affected Public: Private Sector—businesses or other for-profits; non-profits.

Total Estimated Number of Respondents: Approximately 2,314.

Form ETA-9142C:

Estimated Number of Respondents filing electronically: Approximately 2,198.

Estimated Number of Respondents filing by mail: Approximately 166.

Form ETA-9141C:

Estimated Number of Respondents filing electronically: Approximately 2,198.

Estimated Number of Respondents filing by mail: Approximately 116.

Record keeping:

Estimated Number of Respondents that must comply with record keeping requirements: Approximately 2,314.

Total Estimated Number of Responses: Approximately 149,739 responses.

Average Time per Response: 46 minutes per Form ETA-9141C application and 1 hour and 50 minutes per Form ETA-9142C application materials; 20 minutes to comply with recordkeeping requirements.

Total Estimated Annual Time Burden: 73,987 hours.

Total Estimated Other Costs Burden: $155,155.

Program Authority: 48 U.S.C. 1806; 44 U.S.C. 3507; 20 CFR 655, subpart E.

Dated: September 27, 2019.
Frederick Licari,
Departmental Clearance Officer.

[FR Doc. 2019-21484 Filed 10-2-19; 8:45 am]

BILLING CODE 4510-FP-P